DEPARTMENT OF THE INTERIOR

Bureau of Land Management

DEPARTMENT OF AGRICULTURE

Forest Service

[20XL.LLIDI00000.L71220000.EO0000.LVTFDX814600.241A;4500150180]

Notice of Intent To Prepare an Environmental Impact Statement for the Husky 1 North Dry Ridge Phosphate Mine and Notice of Cancellation of Environmental Impact Statement Preparation for the Nu-West Mining Husky 1-North Dry Ridge Phosphate Mine Project

AGENCY: Bureau of Land Management, Interior; U.S. Forest Service, Department of Agriculture.

ACTION: Notice of intent to prepare an Environmental Impact Statement and notice to terminate preparation of Another Environmental Impact Statement.

SUMMARY: The Bureau of Land Management (BLM) and Forest Service will consider approving the Husky 1 North Dry Ridge phosphate Mine and Reclamation Plan (MRP) on Federal Phosphate Leases, lease modifications, and Special Use Authorizations for ancillary facilities located off-lease on National Forest System lands. Previous plans submitted by Nu-West Mining (doing business as Agrium Conda Phosphate Operations) for the mining property are no longer being considered for approval. The former Notice of Intent published in 2012 (77 FR 46107) is cancelled and preparation of the Environmental Impact Statement (DOI-BLM-ID-I020-2012-0047-EIS) is terminated.

DATES: The BLM and Forest Service request comments concerning the scope of the analysis and identification of relevant information, studies and analyses. All comments must be received by January 22, 2021. The draft Environmental Impact Statement is scheduled for May 2021 and the final Environmental Impact Statement is scheduled for November 2021, with BLM and Forest Service Records of Decision in February 2022. The BLM will announce dates of scoping meetings at least 15 days in advance of the meeting on the BLM National ePlanning website— https://go.usa.gov/x7HSJ. Scoping meetings will be held online.

ADDRESSES: Send written comments to: Husky 1 North Dry Ridge Mine EIS, C/O Tetra Tech, 2525 Palmer Street, Suite 2, Missoula, MT 59808. Send comments via email to BLM_ID_Husky1NDR_EIS@blm.gov. Submit comments online at the website https://go.usa.gov/x7HSJ.

FOR FURTHER INFORMATION CONTACT: Wes Gilmer, BLM Pocatello Field Office, (208) 478-6369 or wgilmer@blm.gov. Persons who use a telecommunication device for the deaf (TDD) may call the Federal Relay Service (FRS) at 1-800-877-8339 to contact the above individual during normal business hours. The FRS is available 24 hours a day, seven days a week, to leave a message or question with the above individual. You will receive a reply during normal business hours.

Documents pertinent to this proposal may be examined at the Pocatello Field Office, address 4350 Cliffs Drive, Pocatello, ID 83204; information is also available at the BLM's website at https://go.usa.gov/x7HSJ.

SUPPLEMENTARY INFORMATION:

Purpose and Need for the Proposed Action

Itafos Conda LLC is proposing to exercise mining rights that the Unites States has previously granted in Federal phosphate leases that it currently holds or controls. The company has developed and submitted an MRP for the Husky 1 North Dry Ridge Phosphate Mine. The purpose is for the BLM and Forest Service to evaluate and respond to the plan submitted for the recovery of phosphate ore and to modify leases, in accordance with the Mineral Leasing Act of 1920 as amended. As the surface management agency, the Forest Service will provide the BLM with formal recommendations on the BLM's action to modify the lease (43 CFR 3503.20), evaluate and respond to the MRP, and issue Special Use Authorizations for the portion of operations that would occur on National Forest System (NFS) lands outside lease boundaries (36 CFR 251.50). Itafos Conda LLC has the exclusive right and privilege to recover phosphate from their leases, including the exploration, mining, and disposal of the phosphate or phosphate rock. The U.S Army Corps of Engineers (USACE) purpose as a cooperating agency in preparation of an Environmental Impact Statement, is to evaluate and consider the MRP relative to a permit decision under Section 404 of the Clean Water Act. The need for the Husky 1/North Dry Ridge Project is to develop the phosphate resource, using an economically viable method, in accordance with Federal laws and regulations governing Federal mineral leases, and to allow Itafos Conda LLC to exercise its right to develop the leases and ensure economically viable and continuous phosphate operations that are in compliance with established requirements. Ultimately, the project would supply phosphate ore to the plant in Soda Springs, ID.

Preliminary Proposed Action and Alternatives

The proposed action includes two open phosphate mining pits—the North Dry Ridge and Husky 1—in portions of the existing North Dry Ridge, Husky 1, and Maybe Canyon Mine leases, and proposed lease modifications. Mining would proceed in phases with overburden first placed in existing South Maybe Canyon pits, followed by backfilling the Husky 1 and North Dry Ridge pits as room is made available. A portion of the Husky 1 pit overburden would also be used to construct a permanent external overburden stockpile for use in reclamation and to buttress mine features such as the relocation of the upper portions of Maybe Creek.

Additional mine facilities include growth media stockpiles, temporary overburden storage areas, water management features, dust suppression and water supply wells, haul roads, equipment staging areas, fuel storage areas, train loading facility (tipple), ore stockpiles, and the shop and office area. The existing offices and shop facilities at the Dry Valley Mine would be used as the main base for Project operations. The Dry Valley yard area would be used for fuel storage tanks, an equipment parking/hot start line, and a laydown yard.

Ore would be transported via haul roads from the mine pit areas to an ore stockpile and tipple, then loaded onto railcars and transported by existing rail line to Soda Springs. The proposed action includes closing a portion of an existing NFS Road (#134) for the duration of mining and reclamation. It also proposes that the Blackfoot River Road be used as the primary means for the public to access Diamond Creek Valley and Dry Valley. The mine would encompass approximately 2,096 acres of Federal land, including existing Federal phosphate leases (1,504 acres), proposed lease enlargement modifications (479 acres), and Forest Service Special Use Authorizations (113 acres), and an additional 9 acres of private land. Mining operations would disturb approximately 1,145 acres of which approximately 1,122 acres, or 98 percent, would be reclaimed. The remaining 2 percent consists of some residual pit walls exposed in the partially backfilled pit area and haul roads that would be partially reclaimed to allow for continued access necessary for maintenance and monitoring activities.

To reduce environmental impacts, the MRP emphasizes the backfilling of mine pits and covering with earth, and in some locations compacted clay, to minimize the release of contaminants to ensure that water quality meets the Idaho Ground Water Quality Rule and other established requirements. Portions of Maybe Creek and Stewart Creek may be realigned to ensure the creeks do not encounter selenium materials or backfill and transport contaminants offsite. Suitable soil or other growth media would be salvaged from disturbed areas for use in reclamation. Concurrent mine reclamation would include backfilling pits as mining progresses, grading slopes, capping overburden disposal areas and backfilled pits, reestablishing drainages, spreading growth media, stabilizing surfaces, promoting revegetation, and testing and treatment for any remaining contaminants. Facilities and equipment would be removed at closure. Environmental monitoring would be performed to ensure impacts do not exceed those authorized. Mining would occur for approximately 15 years, followed by approximately one year of final reclamation.

A complete evaluation of the project consistency with the Caribou National Forest Revised Forest Plan may indicate the need for project-specific Forest Plan amendments. In addition to the No Action (not approving the MRP, lease modifications, or Special Use Authorizations) and the Proposed Action, possible alternatives may include: Changing the type or location of cap and cover materials or permanent drainage, modifying the mining area to avoid the Inventoried Roadless Area, eliminating the permanent overburden stockpiles, avoiding closure of the Stewart Canyon Road to recreation during mining, avoiding the lease modifications, avoiding the need for special use permits, or avoiding or modifying the realignment of Maybe and Stewart creeks. Other alternatives may be identified from scoping comments or through analysis.

Summary of Expected Impacts

The BLM expects mining and hauling operations to change groundwater and surface water quantity and quality within regulatory limits; remove and change the structure and composition of vegetation including species important to Native American tribes; disturb wetlands and riparian habitat; modify wildlife and fish habitat; temporarily reduce areas available for recreation (including hunting and camping) until reclamation is complete; change scenery; disturb soil; permanently remove mineral resources; create vehicle emissions and fugitive dust; extend economic activity such as employment and the continued operation of an elemental phosphorous plant; support businesses and generate tax revenue; and reduce livestock grazing.

Anticipated Permits and Authorizations

The BLM anticipates that the following permits and approvals will be required for the mine:

• BLM; MRP approval or modification of approved MRP; 43 CFR 3590.2(a), 3592.1(a)

• Forest Service; 36 CFR 228.5

• BLM; Lease Modification/Fringe Lease; 43 CFR 3510

• BLM; Right-of-way; 90 Statute 2776; 43 U.S. Code (U.S.C.) 1761

• BLM; Phosphate Use Permit; 43 CFR 3501.10, 43 CFR 3516

• Forest Service; Special Use Authorizations; 36 CFR 251

• Idaho Department of Environmental Quality; Point of Compliance under the Idaho Groundwater Quality Rule; IDAPA 58.01.11.401

• Idaho Department of Environmental Quality; Certification of Water Quality (Clean Water Act, Section 401); IDAPA 39-101 et seq.; Idaho Code Parts 39-3601 et seq.

• Idaho Department of Water Resources; Water Rights; Idaho Code Parts 42-201 et seq.; IDAPA 37.03.08, Water Appropriation Rules and 37.03.11 Conjunctive Management of Surface and Ground Water.

• Idaho Department of Environmental Quality; Stormwater Pollution Prevention Plan, Idaho Pollutant Discharge Elimination System; (IDAPA 58.01.25)

• USACE; Section 404 Permit—required if surface disturbance and placement of fill is more than 0.5 acres of wetlands and 500 feet of stream channels; Clean Water Act (Title 33 U.S.C. 1344, Section 404(a)).

• Idaho Department of Water Resources; Stream Channel Alteration Permit; IDAPA 42-3801

• Idaho Department of Environmental Quality; Air Quality Permit to Construct; IDAPA 58.01.01

• Idaho Department of Lands; Reclamation Plan approval and modification of approved Reclamation Plan; IDAPA 20.03.02.010, 20.03.02.120, and 20.03.02.140

• Caribou County; Conditional Use Permit for facilities within an approved land use; Caribou County Zoning Ordinance, Chapter 13

Schedule for the Decision-Making Process

The BLM anticipates a decision in February 2022; the Forest Service anticipates a decision on support facilities and the special use authorizations in February 2022; the U.S. Army Corps of Engineers anticipates a 404 permit decision in February 2022. Idaho Department of Environmental Quality anticipates a Point of Compliance in December 2021 and Idaho Department of Land anticipates a reclamation plan approval in 2022.

Public Scoping Process

This notice of intent initiates the scoping process, which guides the development of the Environmental Impact Statement. Scoping meetings will be virtual. An announcement about when and how to access the virtual meetings online will be posted on the BLM's project website.

The purpose of public scoping is to identify relevant issues that will influence the scope of the environmental analysis, including alternatives, and guide the process for developing the environmental impact statement. The BLM and Forest Service will use and coordinate the NEPA public scoping to help fulfill the public involvement requirements under the National Historic Preservation Act (54 U.S.C. 306108) as provided in 36 CFR 800.2(d)(3). The information about historic and cultural resources within the area potentially affected by the proposed action will assist the BLM and Forest Service in identifying and evaluating impacts to such resources.

The BLM and Forest Service will conduct government-to-government consultation with Indian tribes in accordance with Executive Order 13175 and other policies. Agencies will give due consideration to Tribal concerns, including impacts on Indian trust assets and treaty rights and potential impacts to cultural resources.

The lead agencies invite Federal, State, and local agencies, along with Tribes and other stakeholders that may be interested in or affected by the proposed Husky 1 North Dry Ridge Mine to participate in scoping. Agencies with regulatory authority or special expertise, if eligible, may request or be requested by the BLM and Forest Service to participate in the development of the environmental analysis as a cooperating agency.

Request for Identification of Potential Alternatives, Information, and Analyses Relevant to the Proposed Action

BLM and Forest Service request assistance with identifying potential alternatives to the Proposed Action to be considered. As alternatives should resolve a problem with the Proposed Action, please indicate the purpose of the suggested alternative. The BLM and Forest Service also request that potential impacts that should be analyzed be identified. Impacts should be a result of the action; therefore, please identify the activity and the potential impact that should be analyzed. Information that reviewers have that would assist in the development of alternatives or analysis of resources issues is also helpful.

Lead and Cooperating Agencies

The BLM and Forest Service are joint lead agencies. U.S. Army Corps of Engineers, Idaho Department of Environmental Quality and Idaho Governor's Office of Energy and Minerals are cooperating agencies.

Decision Makers

Idaho Falls District Manager Mary D'Aversa is the BLM responsible official. Caribou-Targhee Forest Supervisor Mel Bolling is the Forest Service responsible official.

Nature of Decisions to Be Made

The BLM will decide, regarding approval of the MRP and appropriate mitigation measures, the proposed Federal Phosphate Lease modifications, and other appropriate land use authorizations for activities that take place on leased lands.

The Forest Service will decide on (1) recommendations to the BLM concerning surface management and mitigation on leased lands within the Caribou National Forest; (2) decisions on mine-related activities that occur off-lease on NFS lands (Special Use Authorization), and (3) whether to approve project-specific amendment(s) to the Forest Plan.

The USACE will decide whether to issue permit(s) under Section 404 of the Clean Water Act for placement of fill or dredge material into waters of the U.S. based on their determination of compliance with the EPA's 404(b)(1) Guidelines (40 CFR 230) including selection of the least environmentally damaging practicable alternative and the public interest review finding at 33 CFR 320.4(a).

Public Disclosure

Before including your address, phone number, email address, or other personal identifying information in your comment, you should be aware that your entire comment—including your personal identifying information—may be made publicly available at any time. While you can ask us in your comment to withhold your personal identifying information from public review, we cannot guarantee that we will be able to do so.

John F. Ruhs,
State Director, Bureau of Land Management, Idaho.
Mel Bolling,
Forest Supervisor, Caribou-Targhee National Forest.

[FR Doc. 2020-28242 Filed 12-22-20; 8:45 am]

BILLING CODE 4310-GG-P